DEPARTMENT OF AGRICULTURE

Forest Service

RIN 0596-AB67

Forest Transportation System

AGENCY: Forest Service, USDA.

ACTION: Notice of final administrative policy.

SUMMARY: In conjunction with the final rule published elsewhere in this part of today's Federal Register, the Forest Service is adopting a final policy governing the national forest transportation system. This action is necessary to ensure that National Forest System roads provide for public uses of National Forest System lands; provide for safe public access and travel; allow for economical and efficient management; to the extent practicable, begin to reverse adverse ecological impacts associated with roads; and meet all other current and future land and resource management objectives. The intended effects of this final policy are to ensure that decisions to construct, reconstruct, or decommission roads will be better informed by using a science-based roads analysis; that the availability of road maintenance funding will be considered when assessing the need for new road construction; and that, instead of focusing on constructing new roads, emphasis will be given to reconstructing and maintaining classified roads while decommissioning unnecessary classified and unclassified roads. The direction is being issued as amendments to Forest Service Manual Title 7700—Engineering, in Chapter 7700—Zero Code and in Chapter 7710—Transportation Atlas, Records, and Analysis.

EFFECTIVE DATE: The directives are effective January 12, 2001.

FOR FURTHER INFORMATION CONTACT: Mike Ash, Deputy Director, Engineering Staff, Forest Service, 202-205-1400.

SUPPLEMENTARY INFORMATION: The following outline displays the contents of the Supplementary Information section of this policy document.

Background

Analysis and Response to Public Comments

Response to General Comments

Road management rule and policy

Adequacy of public involvement on the road management rule and policy

Public and technical review

The roads analysis process

Accountability for managing forest transportation facilities

Validity of the data used to indicate the need to revise the policy

Demand for and supply of roads

Effectiveness of road restrictions and closures

Social and economic considerations

Motorized access

Effects of roads policy on the environment

Creation/expansion of roadless or unroaded areas

Recognition of improved road construction and maintenance techniques

Response to Specific Comments

Amendments to Forest Service Manual Chapter 1920—Land and Resource Management Planning

Proposed Section 1920.5—Definitions

Proposed Section 1922.15—Resource Integration Requirements, paragraph 20

Proposed Section 1922.15—Resource Integration Requirements, paragraph 28

Amendments to Forest Service Manual Title 7700—Forest Transportation System

Proposed FSM Title 7700—Chapter Zero Code

Proposed Section 7701.1—Coordination with Forest Planning

Proposed Section 7701.2—Revegetation

Proposed Section 7701.3—Transportation System Management

Proposed Section 7702—Objectives

Proposed Section 7703—Policy

Proposed Section 7703.1—Road Management

Proposed Section 7705—Definitions

Proposed Section 7709—Handbooks

Proposed Chapter 7710—Transportation Atlas, Records, and Analysis

Chapter title

Forest Road Atlas

Forest Transportation Atlas and records

Transportation analysis

The roads analysis process

Responsibilities for agency Responsible Officials

Roads analysis transition procedures

Specific comments on the regulatory certifications of proposed policy

Cost-benefit analysis

Civil Justice Reform Act

No Takings Implications and Civil Justice Reform Act

Regulatory Certifications

Regulatory Impact

Unfunded Mandates Reform

Environmental Impact

Civil Justice Reform Act

Controlling Paperwork Burdens on the Public

Conclusion

Background

On March 3, 2000, the Forest Service published in Part III of the Federal Register (65 FR 11676-11693) a proposed rule and proposed administrative policy, which together were designed to improve the management of National Forest System roads. Under the proposed rule, the rules governing transportation planning and management (36 CFR Part 212) would have been modified as follows:

1. A transportation atlas would be required for each National Forest System administrative unit to display the system of roads, trails, and airfields needed for public access and agency resource management.

2. The word “development” would be removed from the description of roads and trails under Forest Service jurisdiction, to signal the shift away from developing new roads to better managing existing roads and access.

3. A science-based analysis process would be required to identify the transportation facilities.

4. As part of road system management planning, agency officials would be required to identify the minimum road system that is commensurate with resource objectives, reflects likely funding, and, to the extent practicable, minimizes adverse environmental effects associated with road construction, reconstruction, and maintenance.

5. Equally important was the proposed rule's requirement to identify unneeded roads that should be decommissioned and to give priority to decommissioning those roads that pose the greatest risk to public safety or environmental quality.

Simultaneously with the proposed rule, the agency published a proposed administrative policy (65 FR 11684). That policy proposed to integrate the process for determining transportation needs into the forest land and resource management planning process (Forest Service Manual Chapter 1920). The other changes would be issued as amendments to Forest Service Manual Title 7700, entitled “Forest Transportation System,” specifically to the Chapter Zero Code, and Chapter 7710, which would be renamed “Transportation Atlas, Records, and Analysis.”

The focus of the proposed revisions to agency administrative directives was to provide National Forest System road access in a manner that can be efficiently managed within the capabilities of the land. Coordination of transportation analysis and planning with State, county, local, Tribal, and other Federal agency officials was an important component of the proposed policy. Another key feature was that the policy prescribes interim requirements for new road construction in sensitive unroaded and roadless areas until the findings of a comprehensive forest-scale, science-based analysis of the road system is incorporated into forest plans.

Analysis and Response to Public Comments

Public comment on the proposed policy and rule was invited for a 60-day period ending May 2, 2000, and was extended an additional 15 days to May 17, 2000 (65 FR 24910). The Forest Service received approximately 5,900 responses, consisting of letters from individuals, postcards, form letters, petitions, e-mail messages, and resolutions. The geographic distribution of responses received was as follows: Western States—2,105; Mountain States—1,607; Central (Midwestern) States—733; Southeastern States—279; Northeastern States—541; and Unknown—581. Of the nearly 5900 total responses, 5505 were received from individuals. Groups and organizations representing forest resource users (grazing, timber, oil/gas/mining, and recreation) accounted for 134 responses and conservation and preservation groups submitted another 97. Government agencies and elected officials accounted for 98 responses and are divided between: Tribal (6), Federal (16), State (28), county (37), and local (11). There were an additional 34 responses received from groups or organizations that do not fit into one of the previous categories.

Comments on the proposed administrative policy focused on both broad topics reflecting the reviewers' forest management philosophies and environmental values as well as on specific provisions of the policy. Issues raised included such topics as: use of science-based analysis, public involvement, definitions, local decisions, social and economic impacts, and physical and biotic environmental effects of access. Summaries of the significant general comments received and the agency responses follow.

Response to General Comments

Use of Public Comments on the Proposed Rule and Policy

Several respondents wanted to know how public comments would be used to develop the final rule and policy. Others asked specifically whether the agency would use public input when finalizing the rule and administrative policy.

Agency response: Each letter was read; coded by subject, content, and demographics; and entered into a database. Comments were then compiled in the database by subject and content and summarized as “public concerns.”

These “public concerns” were reviewed and grouped into the following categories: purpose and need, processes, relationships, planning and implementation, forest management, social and economic considerations, and environmental effects. The concerns were then analyzed to identify whether they pertained to the proposed rule, proposed policy, and/or the environmental assessment. The comprehensive list of comments was further reviewed to ensure that all concerns were considered. Changes made in the policy are based primarily on the comments received in response to the proposals. While the agency does not necessarily agree with all the comments, it did carefully consider whether changes were needed and arrived at a rationale for its responses. The Supplementary Information section of this final policy summarizes comments and sets out the agency's response, including whether or not and how the policy has been revised. Also, Appendix G of the environmental assessment addresses comments received specific to the environmental assessment.

The Adequacy of Public Involvement on the Proposed Road Rule and Policy

Some respondents thought the agency should have conducted more public involvement with local residents and groups, provided better public access to information, and conducted more outreach to rural populations. Others requested more time to respond or even asked that the final decision be delayed to permit additional public involvement.

Agency response: The final rule and administrative policy incorporate the results of extensive public involvement both before and after publication of the proposals. The agency used a variety of methods to make information available to the public, including public meetings, news releases, public mailings, and internet websites. Public involvement efforts began in January 1998 with the announcement of the intent to revise regulations concerning the management of the National Forest Transportation System. Over 80,000 letters, postcards, and e-mail messages were received in response to the January 1998 announcement. These public comments were used to assist the agency in the development of the proposed rulemaking and the proposed administrative policy published in the Federal Register (65 FR 11684) on March 3, 2000. As previously noted, the initial 60-day public comment period was extended for an additional 15 days at the request of potential respondents (65 FR 24910). Therefore, the agency does not believe additional public outreach or involvement is necessary.

Consistency and Technical Quality of Roads Analyses

Some respondents expressed concern that Forest Service roads analyses would vary in quality and rigor and would lack credibility, unless reviewed by outside scientists and other interested individuals or entities. These respondents felt that the findings of roads analyses would always be questioned and lack credibility because the process provided the line officer considerable discretion in affecting the outcome. These respondents proposed that the Forest Service form technical review teams composed of a roads interdisciplinary team, a roads analysis support team, external partners, and non-agency scientists to review the roads analysis for scientific consistency and quality and thus ensure that sound science is being applied. Others wanted to know if the results of the roads analyses would be available for public review.

Agency response: The roads analysis process is designed to provide decisionmakers a sound, science-based procedure for analyzing road management issues and concerns and for identifying road management opportunities. The process is intentionally designed with enough discretion to allow for adjustments in the scope and intensity of the analysis for addressing individual resource situations and varying issues. The agency's emphasis is not on whether all road analyses pass the same “quality or scientific rigor test,” but rather that the analyses effectively identify and address relevant road issues and concerns specific to the area being analyzed. An interdisciplinary team, composed of appropriate subject matter specialists, will conduct each roads analysis. In addition, participation by interested individuals, groups, and governments in the analysis process is not only encouraged but also will be a critical component of the success of the analysis. The findings of the roads analysis will be integrated into other ecological assessments either at the watershed scale, area, or higher scale. Road-related issues, concerns, opportunities, and needs generated as a result of the roads analysis will be disclosed and, when appropriate, analyzed in an appropriate National Environmental Policy Act (NEPA) decision process.

Roads Analysis Process

Some reviewers said that the roads analysis process would result in duplicative work as well as yield inconsistent results.

Agency response: The roads analysis process integrates ecological, social, and economic factors in addressing current and future road needs. The roads analysis process provides a systematic, multiple-scale, agency-wide approach to ensure that important road issues are examined at the appropriate scale. The process is not intended to be applied in a rigid fashion; in fact, given the diversity of the landscape, resource conditions, and the social and economic conditions, rigid application of a roads analysis process would surely fail; rather, the process is intended to be tailored to fit real-life local situations and analysis needs. Therefore, the results of an analysis for one situation is not expected to be identical to an analysis for a different situation. The process also should not be duplicative of other data or work. To the extent possible, existing data are used in the process but, depending on the scope of the issues and concerns, additional information may be collected.

Accountability for Managing Forest Transportation Facilities

Many reviewers expressed resentment about how the Forest Service is making access management decisions. These respondents claimed that the public is being stripped of the right of access to National Forests and Grasslands due to the Forest Service's inability to properly maintain the road system. At least one respondent said that the Forest Service should develop guidelines to assist local districts in the implementation of the final policy. Several writers, while in full support of the transportation policy, did not believe it would be implemented effectively or completely. These respondents suggested that a quota system be initiated that would require a net reduction in total road mileage, schedule road decommissioning, prohibit new road construction, set road density limits, and designate all lands closed to motorized use unless specifically designated open.

Agency response: The agency believes the final Forest Service Manual revisions provide clear guidance to field units. Forest Service Manual Chapter 7710 establishes objectives and responsibilities for analyzing transportation needs and issues. It also provides for significant public involvement for identification of opportunities and concerns, all of which strengthen the agency's and the public's ability to hold Responsible Officials accountable for implementation. The direction in the Forest Service Manual is the foundation for internal reviews of policy and program implementation by field units. Therefore, the mechanisms to provide oversight and ensure compliance are already in place. The agency does not agree that a general prohibition on new road construction or that a quota system for road decommissioning is appropriate. Local, forest-level access and resource management needs, identified within a forest planning framework, should direct road management network decisions. As opposed to specific prohibitions on road construction in inventoried roadless areas, which are under consideration, a general, agency-wide ban on any new roads in the National Forest System is excessive and unduly rigid.

Validity of Agency Statements About the Need To Revise the Policy

Some respondents expressed concern about the validity of the data used to determine the need to revise the transportation policy. Specifically, these respondents challenged the basis for the statements related to demand and use of National Forest System lands, and the assumption that roads have caused environmental damage. Others challenged the degree to which roads are needed for ongoing management of National Forest System land, such as for forest health, fire management, or resource uses.

Agency response: The information and data used to identify the need to revise this administrative policy were collected from several sources. Forest Service researchers and resource specialists reviewed scientific literature to identify the latest research involving the environmental, social, and economic effects of existing roads and road construction, reconstruction, decommissioning, and maintenance. This literature review helped identify the latest recreational demand and supply trends and attitudes about roads on National Forest System lands. Analytical tools for assessing road-related effects on physical and biological resources were also explored. These efforts, in conjunction with other known information (including road-related resource problems, budget limitations and trends, and associated maintenance backlogs) all indicated that the agency needed to change how it manages the transportation system. It should be noted that respondents challenging data and assumptions provided no data or data sources to support their assertions.

The Demand for and Supply of Roads

Many respondents were concerned with the juxtaposition of the agency's projected increase in public demand for roaded and unroaded recreational use on National Forest System lands with the projection of fewer open road miles to accommodate that demand. Some questioned whether the agency was intentionally reducing the supply of roads to reduce demand. Others were concerned with potential adverse environmental effects of confining more users to a smaller available land base and urged that the agency preserve access options in order to provide a variety of travel-ways on National Forest System lands and to diffuse access impacts over a broader land base.

Agency response: The National Forest Transportation System is vitally important to the management of National Forest System lands and is essential to many rural communities and land owners as well as to recreationists and other resource users. The agency seeks to find a balance between the need for public and administrative access to these lands and the environmental costs and benefits associated with providing that access to these lands. The final policy retains the requirement to use a roads analysis process in conjunction with ecosystem assessments that support project activities or forest planning. The roads analysis process encourages the active engagement of local citizens, interested organizations, and other Federal, State, Tribal and local governments to identify and assess both short- and long-term road needs. This collaborative effort will help to ensure that important environmental issues and concerns, as well as road supply issues and concerns, are addressed in a reasonably balanced way. An emphasis on maintaining the existing road system will better enable the Forest Service to focus its resources on maintaining and reconstructing those roads most important to the public.

The Effectiveness of Road Restrictions and Closures

In response to the proposal to “aggressively” decommission roads, many respondents believe that a lack of enforcement of previous road decisions is a major factor behind the agency's inability to effectively manage its current road system. Many others noted that by closing access to more areas, fewer members of the public would use National Forest System lands. Others stated that, despite the potential for increased fines, many forest users would ignore road closures due to lack of enforcement of those closure orders. Others indicated that the law-abiding majority of forest users are “bearing the punishment” of road closures, when roads are closed to deter the reckless, illegal behavior of a few.

Agency response: The roads analysis process adopted for use in the final policy is designed to help forest officials better address issues associated with road and access management. Conducting the process with local public and governmental involvement should help officials more clearly define road issues, including restriction or closure alternatives, how the restrictions would be implemented, and the relative effectiveness of road restrictions, closures, and decommissioning.

Motorized Access

Motorized recreationists felt that they were being singled out and forced to bear the majority of the access restrictions on public lands, when their impacts are relatively small compared with other activities. They stated that the analysis should consider the full breadth of motorized and non-motorized recreational needs.

Agency response: Motorized and non-motorized allocation issues, needs, and concerns are appropriately addressed at the local level during the forest or project planning process. The roads analysis process, which is intended to be an open process involving all who are interested in, or affected by, road decisions will be used to inform forest planning road management decisions.

Environmental Effects of Roads Policy

Many respondents wanted the Forest Service to analyze the effects of roads and road management actions on the environment, including on watersheds, riparian areas, fisheries, soils, wildlife, recreational opportunities, and threatened and endangered species. Some reviewers indicated that more environmental damage might be caused by decommissioning roads than by leaving them alone.

Agency response: Roads analysis allows objective evaluation of the physical and biotic environmental effects, as well as of the social and economic effects, of potential road construction, reconstruction, decommissioning, and maintenance actions. The roads analysis process incorporates early identification of potential effects in the site-specific, project-level, decisionmaking and forest planning processes. Therefore, it will help planners recognize those situations where the adverse effects (costs) would outweigh the benefit. This analysis process allows the agency to identify potential issues and opportunities and the options for addressing them.

The Creation/Expansion of Roadless or Unroaded Areas

Many reviewers concluded that road decommissioning could lead to the creation or expansion of inventoried roadless or unroaded areas. These reviewers felt that future entry into these areas could be precluded and that the area could then be considered roadless or unroaded depending on the size of the area and proximity to existing roadless or unroaded areas. These respondents said that in cases where roads pose an environmental risk because of location or initial construction standards, the risks might force road closures. They said that relocation of the road might be impossible because of newly created unroaded areas.

Agency response: Decommissioning roads may result in an increase in the amount of land that is unroaded. Decommissioning does not, however, change the underlying allocation or assigned use for that land. Currently approved activities in areas where roads are decommissioned would continue until, and unless, forest plan direction is amended to preclude these activities. Environmentally damaging roads may be relocated if such an action was consistent with the current forest plan direction. It is possible that some unroaded lands could, at some point, be designated Wilderness areas by Congress, but such a designation is not a foregone conclusion. The majority of decisions related to areas that have decommissioned roads would be made at the local forest planning level and, therefore, conflicting viewpoints would be addressed.

Recognition of Improved Road Construction and Maintenance Techniques

Some respondents said the Forest Service should acknowledge that improved techniques for road layout, design, construction, and maintenance have been used on national forests in recent years and that these improved techniques have resulted in fewer road-related environmental impacts.

Agency response: The agency agrees that road construction techniques used today result in fewer and less intensive adverse environmental impacts than did earlier construction techniques. However, this new technology does not address the problem that the national forests contain over 380,000 miles of classified roads, one-quarter to two-thirds of which are more than 25 years old. It is highly likely that many of these existing roads do not meet current standards for safety or environmental protection. It is critical, therefore, that the agency focus its resources more on maintenance and reconstruction of needed roads and less on new construction.

Specific Comments

In addition to the preceding general comments, the agency received specific substantive comments by code and caption of the proposed policy. Summaries of those comments and the agency's responses follow. The discussion of comments and agency responses is organized according to the coding of the proposed policy.

Amendments to FSM Chapter 1920—Land and Resource Management Planning

This chapter of the Forest Service Manual provides definitions and implementing policy for National Forest System lands and resource management planning processes. Implementation of the road management strategy as described in this final administrative policy will occur chiefly through forest plan amendment or revision. Therefore, direction is needed on how forest planning teams integrate consideration of the forest transportation system into the planning process.

Proposed Section 1920.5—Definitions

The terms “unroaded areas” and “inventoried roadless areas” were proposed to be added. The terms were essentially the same as used in the agency's proposed forest planning rule (64 FR 54073). No comments were received on the definition section of the proposed policy. However, the agency has revised both definitions to be identical to the definitions used in both the Land and Resource Management Planning and Roadless Area Conservation Final Rules.

Proposed Section 1922.15—Resource Integration Requirements

The proposed policy added a new paragraph 20 for planners to identify the access requirements and travel management options available to meet resource management objectives for each management area prescription within the forest plan and to identify road management opportunities to be considered. No comments were received on this paragraph; therefore, this paragraph is adopted without change.

Proposed paragraph 28 required that management prescriptions protect values associated with unroaded conditions. Examples of those values included such actions as providing barriers to invasive species and ensuring biological diversity. No comments were received on this paragraph; however, the agency has dropped this paragraph from the final policy in deference to the final Land and Resources Management Planning Final Rule, which addresses protection of roadless values.

Amendments to Forest Service Manual Title 7700—Forest Transportation System

Proposed FSM Title 7700—Chapter Zero Code

This chapter of the Forest Service Manual establishes the overarching, broad authorities, objectives, policy, responsibilities, and definitions for planning, operating, maintaining, and decommissioning forest transportation system facilities. Throughout this chapter, references to “development” were proposed to be removed to reflect a shift in administrative policy from “road development” to “managing access within the capability of the land.”

Comment: Several respondents objected to the removal of the word “development” from the rule and administrative policy, claiming that the removal was an agency tactic to deceive the public merely by using new terms. Others agreed that the change was in alignment with the proposed change in management emphasis.

Agency response: Removing the word “development” to reflect a shift in policy from “road development” to “managing access within the capability of the land” is a fundamental element of this administrative policy and the accompanying final rule. There is no attempt to deceive the public. To the contrary, we are displaying our intention publicly and subjecting it to comment. Therefore, no change has been made in the final policy, except to add a reference to the Manual section guiding road analysis

Proposed Section 7701-7701.3—Coordination With Forest Planning

This section cites the legal authorities that apply to Transportation Planning Management. No comments were received on section 7701.1 and no changes have been made to this section of the final policy.

Proposed Section 7701.2—Revegetation

This section addresses statutory requirements for revegetating non-permanent roads when activities are completed. In the draft policy, the agency used the term “prescribes the revegetation of unnecessary roads.”

Comment: Several respondents noted that the Forest and Rangeland Renewable Resources Planning Act section 10(b) requires “revegetation” of “non-permanent” roads.

Agency response: The agency agrees with the comment. To more accurately reflect the intent of the law, the final policy is revised to read “The Forest and Rangeland Renewable Resources Planning Act directs that roads be designed to standards appropriate for intended uses and requires the revegetation of roads within 10 years of the termination of temporary and undeveloped roads created under contract, permit, or lease.”

Proposed Section 7701.3—Transportation System Management

This section identifies the statutory and regulatory authorities for transportation system management. The second authority cited in this section is the Highway Safety Act of 1966.

Comment: Respondents wanted the word “directs” changed to “authorizes” in paragraph 2 of this section. They indicated that the Highway Safety Act authorizes, instead of directs, federal agencies to do certain activities.

Agency response: The agency agrees that the use of the word “directs” was inaccurate and has revised the text of the final policy to this effect.

Proposed Section 7702—Objectives

This section identifies the management results to be achieved through transportation system management. The proposed policy sought to refine the management objectives to emphasize environmental protection and to consider ecosystem values in forest transportation system management.

Comment: Some respondents stated the objectives were too narrow and should include specific resources or uses to be served by the transportation system (timber, utility corridors, developed and dispersed recreation, cross-country ski corridors, wildlife corridors, etc.). Other comments indicated the need to clarify text or reorder the list of objectives.

Agency response: The agency disagrees with the need to list specific resources or uses. However, consistency with Forest Plans has been added to better reflect the agency's intent to consider all pertinent uses and resources in the planning process. The coding hierarchy and content standards applicable to FSM Title 7700 is intended to list the basic transportation management outcomes. The order of the objectives was not changed in the final policy because, taken together, they accurately represent agency objectives.

Proposed Section 7703—Policy

This section sets forth the broad policies that are intended to guide decisions about road activities. These policies overlay all of the subsequent directives in Title 7700, not just Chapter 7710, which is being revised. Section 7703 implements the requirements of 36 CFR 212.5(b)(1) by specifying that the minimum transportation system is the system that best serves current and anticipated land and resource management objectives and public uses considering current and future funding levels.

Comment: Many respondents were deeply concerned about the proposed policy direction to “provide the minimum forest transportation system.” They questioned the ability of the agency to effectively manage forest resources long-term while reducing road access. Others objected to a reduction in roads that are open to public use, predicting an adverse effect on public access and recreational use on National Forest System lands. Some respondents emphasized the need for coordination and requested that addition to the policy.

Agency response: By “minimum system,” the agency did not mean no new roads or other new transportation facilities or that a majority of roads would be decommissioned or converted to other uses. Rather, the agency intends the minimum system of roads is one that meets needed access needs while protecting healthy ecosystems. Furthermore, the text defines “minimum transportation” as the system needed to best serve (emphasis added) current and anticipated management objectives and public uses as identified in forest plans. Any amendment or revision of forest plans will involve NEPA compliance and full public involvement. Therefore, in response to concerns about coordination, the agency has retained this text in the final policy, has replaced the term “forest officers” with “Responsible Officials,” and has added language to demonstrate the expected coordination with other transportation agencies.

Proposed Section 7703.1—Road Management

This proposed section provided direction to conduct a roads analysis when considering proposals to construct new roads, to reconstruct or decommission existing roads, or to change road classifications. The proposed policy also would require use of a roads analysis to identify priorities for reconstructing and maintaining needed roads and decommissioning unneeded roads.

Comment: Some respondents stated that new road construction should be very limited or not allowed at all, while others felt there should be few restrictions on building new roads. By contrast, a number of other respondents felt that the $8.4 billion of road maintenance backlog and decommissioning of all unneeded roads should be completed before any new roads are constructed. Others wanted to have these road management options addressed more thoroughly, in order to delay the closing of roads to the public. A few respondents said that an objective process has not been established for identifying (1) whether new roads are needed, (2) which existing roads should be reconstructed, maintained, or decommissioned, and (3) how priorities should be established. Other respondents had questions about how the road management policy and the use of a roads analysis would consider other motorized and non-motorized uses.

Agency response: The agency notes the disagreement over how decisions about new roads should be made and recognizes that the process for making these decisions needs to be clarified. New language has been added to the final policy to direct the use of a roads analysis to address both access benefits and related ecological costs, giving priority to reconstructing and maintaining needed roads while decommissioning unneeded roads. This section now clarifies when a roads analysis must be conducted and provides a requirement to include an economic analysis that addresses both initial and long-term costs.

The bulk of direction that was in FSM 7703.1 of the proposed policy, has been placed under section FSM 7703.2 entitled “Management Opportunities.” This section gives more specific direction for maintaining and constructing needed roads, decommissioning unneeded roads, and adding new roads. New language has been added to paragraph 1 to explain how temporary and unclassified roads are to be considered when making decisions about road maintenance. A discussion relating to those roads follows under “Proposed Section 7705—Definitions.”

In the final policy, paragraph 3 of FSM 7703.2 entitled “Adding New Roads” has been revised to make clear where decisions to add new roads to the transportation system are appropriate. Language has been added to clarify that new roads newly acquired through land acquisition transactions are subject to the same analysis and justification if they are to be placed in the Forest Transportation System only where resource management objectives, environmental impacts, and benefits associated with a new road have been carefully considered and documented. A requirement to consider motorized and non-motorized uses during the transportation system analysis has also been added in response to comments received.

Proposed Section 7705—Definitions

The proposed policy added new definitions pertaining to road management, updated and revised existing definitions, and removed the word “development.”

Comment: Many respondents were concerned about the definitions of key terms used in the proposed administrative policy. Several respondents requested that the road definition be clarified before finalizing the rule and policy. Others offered suggestions as to what that definition should be. A number of respondents were confused over the terms “classified” and “unclassified” roads and asked which of these categories included temporary roads. Respondents recommended that the agency use the term “National Forest System Road” in place of the term “Forest Road.” Additionally, some respondents wondered if a road could be redesignated as a trail if it was no longer needed as a road.

Agency response: The agency agrees that clarification of some of the terms and definitions is needed. Definitions of “roads,” “classified roads,” “unclassified roads,” “transportation atlas,” “new road construction,” “temporary road,” and “forest transportation facility” were revised in the final rule at 36 CFR 212.1 published elsewhere in this part of today's Federal Register. The administrative policy includes revised definitions for “forest transportation system management,” “new road construction,” “road reconstruction,” “road improvement,” “road realignment,” “road maintenance,” “roads subject to the Highway Safety Act,” and “transportation facility decommissioning”. The proposed definitions for “public roads,” “Forest Road” “Forest Service Trail,” and “transportation facility jurisdiction” have not changed. FSM 7705 Exhibit-01, entitled Road Terminology Relationships, which appears at the end of this document, has been retained and updated to clarify road terminology relationships. The following terms have changed between the draft and final policy in response to concerns expressed in public comment and to clarify agency intent. The new terms in the final policy and how the proposed terms were modified are as follows:

National Forest System Road—This was entitled “Forest Service Road” in the proposed policy. The new term reflects that National Forest System roads serve National Forest System lands.

Forest Transportation Facility—This term was named Forest Transportation System in the proposed policy. Instead, the final policy refers to “facility” instead of system and includes other necessary transportation facilities, such as bridges, parking lots, and other appurtenances.

Forest Transportation System Management—This definition has been revised slightly to reflect changes in other definitions.

New Road Construction—The text has been revised to remove the reference to investment, which was confusing and not relevant in defining the term. Additionally, the definition has been modified to clarify that classified and temporary roads are included in this category.

Road Reconstruction—This term has been simplified by removal of the subcategory definition for rebuilding.

Road Improvement—The text has been changed to remove the reference to investment and clarify that improvement includes expanding the road's capacity or changing the original design function.

Road Realignment—The definition has been streamlined.

Road Maintenance—The definition has been simplified to remove any ambiguity as to the meaning of this term.

Roads Subject to Highway Safety Act—This definition has been modified to reflect the change from “Forest Service roads” to “National Forest System roads.”

Road Decommissioning—This term was “Transportation Facility Decommissioning” in the proposed policy. The terminology has been revised to clarify that the objective of decommissioning is to remove unneeded roads and begin restoration.

The definition in the proposed policy for the term “Rebuilding” has been removed from the final administrative policy because it is a component of reconstruction or maintenance and is no longer needed as a separate definition.

During the last year, the Forest Service has adopted new common terms and definitions for maintenance and construction based on standards developed by the Federal Accounting Standards Advisory Board. These generic terms are now being applied in inventorying, budgeting, and accounting for all fixed assets under Forest Service jurisdiction, including the National Forest transportation system. The terms and definitions used in FSM 7705, though slightly different, are not inconsistent with the new common financial management terms and their definitions. The agency is assessing all its transportation directives to determine what changes in Forest Service Manual and Handbook terminology are needed. However, this effort exceeds the scope of these revisions to road management directives.

Proposed Section 7709—Handbooks

The proposed policy lists Forest Service Handbook Section 7709.56 as a reference. The only change to this section was to remove the term “development” to be consistent with the change in focus in the agency's transportation system and redefining Forest Service road as National Forest System road. No substantive comments were received on this proposed change, and this section is adopted as proposed.

Proposed FSM Chapter 7710—Transportation Atlas Records and Analysis

Based on comment and further review of this policy, the agency has decided to restructure this chapter, revising some of the captions and expanding and clarifying the direction. The substantive changes to the direction are based on public comment received or on the need to be consistent with other current regulatory initiatives. The significant changes are as follows: (1) A clarification that temporary roads are considered necessary for management of National Forest System resources; (2) an emergency exemption from the interim requirements (transition) for catastrophic events and responses or restoration under the Comprehensive Environmental Responsibility, Compensation, and Liability Act; and (3) the requirement that each national forest and grassland complete the forest-scale road analysis process in 2 years. The comments and agency responses on the proposed direction at FSM 7710 are arranged according to the issues raised by the respondents.

Change in the Chapter 7710 Title

Some respondents questioned the need to change the title of the chapter, while others wondered if transportation planning was being replaced by the roads analysis process.

Agency response: The title of Chapter 7710—Transportation Atlas, Records, and Analysis has been retained in the final policy as it was proposed in the administrative policy. This chapter contains objectives, policies, responsibilities, and requirements for analyzing and documenting the transportation system. The agency feels that the title better reflects the overall transportation management program since transportation planning is only one aspect of the program.

Forest Road Atlas and Records

Similar to comments on Section 7705 noted above, respondents were concerned primarily with which roads would be tracked in the atlas: classified, unclassified, or both. Others were unclear how and where temporary roads would be tracked. Some respondents suggested periodic updates to the road atlas be required, such as annually or every 5 years.

Agency response: All classified and unclassified roads are required to be included in the road atlas. Including unclassified roads in the atlas will provide the mechanism needed to track the prioritization, scheduling, and decommissioning of unclassified roads. The inclusion of unclassified roads in the road atlas is necessary for roads analysis and identification of road management opportunities and priorities. Their inclusion in the atlas does not mean that they are part of the official forest transportation system. The agency recognizes that temporary roads are usually short-term in duration (often less than 1 year) and are required to be managed and tracked with the project or activity in which they are authorized. Therefore, temporary roads will not be required to be included in the forest road atlas unless the agency decides to retain a temporary road as a classified road after the permitted use ceases. The National Forest Management Act (NFMA) requires that these roads be designed to reestablish vegetative cover within 10 years of the termination of the authorization unless converted to other uses.

The agency does not agree that the atlas should be updated at set periods. Atlas updates are intended to be an ongoing activity as road inventories, analyses, and road-related decisions are implemented.

Comments: Some respondents wanted to have accurate maps available that would show the current status of the road system. Others wanted to have the tabulated road inventory accurately reflect the existing road system. Some wanted to know the difference between the transportation atlas and road atlas.

Agency response: As noted in the final rule which appears elsewhere in this part of today's Federal Register, each administrative unit will be required to prepare and maintain a transportation atlas which consists of geo-spatial, tabular data, and other associated information for National Forest System roads, trails, and airfields. This final policy further defines the transportation atlas to include separate road atlas, trails atlas, and airfield atlas. In the road atlas, the travel status of each road (whether it is managed as open, restricted, or closed) must be identified. The atlas will be updated through ongoing inventories or project and land management planning, and it will be the source for updating maps prepared for public use, such as the Forest Visitor Map. Information in the atlas will be available to the public.

Comment: Respondents emphasized the need to standardize information on roads and bridges, including physical, operational, usage, performance, and safety characteristics.

Agency response: The agency agrees and believes that Section 7712.5—Road Management Objectives, as written in the final policy, establishes the standards for road information.

Transportation Analysis Process

Some respondents wanted the transportation analysis process clarified, while others expressed concerns about coordination and review of the transportation analysis process and results. Still others expressed the need for planning and analysis process accountability.

Agency response: The agency agrees with the need for clarity and accountability of the planning and analysis process. Therefore, Section 7712—Transportation Analysis has been rearranged with minor text changes and additions.

Comment: Respondents said the road management policy needs to address social, economic, and environmental values in transportation planning and analysis and needs to use the findings from transportation planning to update forest plans.

Agency response: The final administrative policy includes objectives, which specify that social, economic, and environmental values must be considered as part of the roads analysis. Section 7712.12 of the final policy clarifies how transportation analysis, which includes road analysis, contributes to the planning process. Also, in recognition of the importance of roads analysis, a requirement has been added in section 7712.15 for each National Forest System administrative unit to complete a forest-scale roads analysis within 2 years.

Roads Analysis Process

Some respondents expressed confusion about the various scales and scopes of roads analysis.

Agency response: In response to these concerns, the Forest Service took a fresh look at the proposal and concluded that the proposal scattered direction about scale and scope of roads analyses in a number of sections and that reorganizing to consolidate this direction into fewer sections would improve the utility of the directives. An outline of the reorganized chapter 7710 showing sections that address scope and scale of roads analysis is set out in the conclusion of this preamble.

Comment: Most respondents supported the concept of using the roads analysis process. Respondents wanted the process to be either more prescriptive or less prescriptive, depending on their views of how National Forest System lands should be managed. Some respondents were confused about how the analysis process would be used.

Agency response: Roads analysis initiates a process that leads to the identification of road-related issues and relevant analysis questions. These issues and questions, when analyzed and answered, will help to ensure that Responsible Officials are well informed when making road construction, reconstruction, decommissioning, and road priority decisions. Roads analysis is issue-driven and capable of examining issues at various scales. Issues may be identified by the public, local, and Tribal governments, State officials, other Federal agencies, or the Responsible Officials.

In considering, these comments on the roads analysis process, the Forest Service has given considerable attention to revising descriptions of the various levels of analyses and the compliance requirements. These are set out at FSM 7712. FSM 7712.1 cites the Roads Analysis: Informing Decisions about Managing the National Forest Transportation System (USDA Forest Service, 1999, Misc. Rep. FS-643) as a current standard for the roads analysis process. The final policy requires the use of this analytical process unless an alternative process is approved by the Deputy Chief for the National Forest System.

In response to confusion about the use of the roads analysis process, a new paragraph has been added at FSM 7712.11 to better describe the expectations and outcomes of a roads analysis. This new text specifies that the product of a roads analysis is a report that documents the information and analysis methods used to identify road opportunities, needs, and recommended priorities for National Forest System roads.

Responsibilities for Agency Officials

Some respondents asked why alternatives to conducting a roads analysis must be approved at the Deputy Chief level.

Agency response: The final policy (FSM 7712.1) adopts the report Roads Analysis: Informing Decisions About Managing the National Forest Transportation System (USDA Forest Service, 1999, Misc. Rep. FS-643) as a current standard for conducting roads analysis, just as proposed. The agency expects that engineering and environmental science and our understanding of these sciences will continue to grow; therefore, it is important to preserve the flexibility to incorporate new information into the roads analysis process as it is developed or to adopt new analytical processes. Placing responsibility for approving alternative roads analyses at the Deputy Chief level ensures that any new processes will meet the high standard for science-based analysis established by the current standard. Consequently, no changes have been made to the final policy regarding approval for using an alternative analytical process.

Comment: A number of respondents emphasized the importance of public involvement as a Forest Supervisor's responsibility. They also requested a timeline for completion of road inventories in preparation for forest plan revisions. Other comments indicated the need to clarify text regarding the Forest Supervisor's responsibilities.

Agency response: The final policy adds public involvement as a component of a Forest Supervisor's responsibility. Also, this section has been reorganized to reflect the normal sequence of transportation planning and analysis requirements.

Roads Analysis Transition Procedures Comments

Most of the comments received concerning the transition language related to the sensitive roadless and unroaded areas included in the proposed policy. Some respondents were confused as to how specific projects and forest plans would be affected by the transition language. Some respondents urged the agency not to exclude or exempt any forests or combinations of forests, such as the Tongass National Forest or forests within the Northwest Plan area, while others wanted more exemptions. Many respondents questioned including the roadless-related direction in the policy when the agency already had an ongoing rulemaking specifically for roadless areas.

Agency response: For clarity, the term “Transition Procedures,” as used in the draft policy, has been changed to “Interim Requirements” in the final policy. The agency carefully considered whether or not to remove the “transition procedures” for road construction and reconstruction in roadless and unroaded areas and this direction has been retained in the final policy at FSM 7712.16 to ensure that the values associated with these sensitive areas are fully considered within the context of forest planning. Without the interim requirements, these areas could be subject to an incremental project-by-project risk of degradation. Also, the final policy adds a new section (FSM 7712.15) to address compliance deadlines for completing forest-scale roads analyses and clarifies at FSM 7712.13-13d how the analyses are to be used to inform forest planning and project decisions.

Finally, pursuant to Section 7712.16b of this final road management policy, the Alaska Regional Forester has the discretion to determine whether a compelling need exists, as defined by this section, for a specific road construction project in the Tongass National Forest. The exercise of that discretion may result in a finding that no compelling need exists, in which case the proposed road would not be built, or in a determination that a compelling need does exist for construction of the road. In either case, the determination will be made based upon consideration of the provisions of the Tongass Land Management Plan, including the goal of seeking to meet the market demand for timber from the Tongass National Forest.

Specific Comments on the Regulatory Certifications of the Proposed Policy

Comments Concerning Social and Economic Considerations

Some respondents felt that the final policy did not adequately address the social and economic effects of decommissioning and closing roads. They believed the Forest Service should reconsider the economic effects of the road policy. Other respondents felt forest roads should be kept open for the economic viability of the surrounding communities and some expressed fears of losing resource-related jobs. Others expressed the need to protect the non-commodity values of National Forest System lands. Respondents said the Forest Service should consider the social ramifications of the transportation policy and how its implementation would affect the quality of life for those who favored more roads as well as for those who favored fewer roads.

Agency response: To the extent practicable, the agency has considered the social and economic effects of adopting this final policy. The final rule and policy provide guidance for transportation planning, but do not dictate local land management decisions. Therefore, the costs and benefits associated with the final rule and policy are described qualitatively in most cases and are limited to predicting the direction of change due to their implementation. The only exception to this limitation was the potential effects on timber harvesting, in which case, the maximum potential effects were estimated. A detailed cost/benefit analysis for the final rule and policy may be found in Appendix E of the National Forest System Road Management Strategy Environmental Assessment available as indicated under the ADDRESSES section of this rule.

Comments Concerning Takings Implications and Civil Justice Reform Act

Some respondents said that the No Takings Implications and Civil Justice Reform Act statements are incorrect because inaccurate Roadless Area Review and Evaluation (RARE II) inventories have resulted in inaccurate roadless delineations. They also believe the road management rule will result in the taking of private property rights by restricting access to mining claims, private and native in-holdings, and other rights of ingress and egress by closing county and permitted roads through and within National Forest System lands. Others were concerned that access for other Federal, State and local agencies would be restricted by decommissioning roads.

Agency response: The agency recognizes that changes have occurred since the RARE II inventories were completed and that, on some forests, portions of inventoried roadless areas have been roaded as a result of forest plan decisions. The final rule requires a roads analysis that will identify needed and unneeded roads, road maintenance priorities, and other road-related resource concerns. Updating existing road inventories must be conducted as part of the roads analysis process. The final roads rule and the accompanying final administrative policy honor access to private property pursuant to statute and to outstanding or reserved rights and do not retroactively affect existing permits, contracts, or other instruments authorizing the occupancy and use of National Forest System lands. This includes reasonable access to private land in-holdings. Forest Service officials must conduct a roads analysis to determine the minimum road system needed to achieve management goals and objectives. As part of that analysis, the agency requires the Responsible Official to seek to involve interested and affected citizens and organizations, including businesses, in the roads analysis and subsequent NEPA processes. Road decommissioning decisions will be made on a local basis, with public involvement, and will take into account access needs of State, county, and Tribal governments.

Comment: Some respondents stated that statements contained in the Civil Justice Reform Act (CJRA) section of the proposed rule raised the question of how much weight public involvement would be given in the process. One respondent said that the ability to ignore other governmental requirements seems to grant unwarranted authority to follow a predetermined course of action without heeding local concerns.

Agency response: The agency has already responded to the use of public comments earlier in the Supplementary Information section. Additionally, the language of the CJRA certification was drafted as a model for use by all USDA agencies. However, the public has understandably found the language confusing because it is drafted in the negative. While this language is appropriate for a codified rule, it is of questionable relevance to the adoption of administrative directive. As a matter of agency policy, Forest Service Manual direction is issued for Forest Service employees only. It doesn't regulate the actions of others, and therefore, would never preempt state law in and of itself. Accordingly, this paragraph has been substantially revised in this final rule.

Regulatory Certifications

Regulatory Impact

The final administrative policy has been reviewed under USDA procedures and Executive Order (E.O.) 12866 on Regulatory Planning and Review. The Office of Management and Budget (OMB) reviewed the final policy and has determined that the final policy, in concert with a final rule published separately in today's Federal Register, are a significant action as defined by E.O. 12866 because of the importance of the National Forest road system and the strong public interest expressed. A cost-benefit analysis was prepared as part of the environmental assessment on the proposed rule and policy revisions. The environmental assessment, including the cost-benefit analysis, has been updated in response to public comment and to conform to the final rule and policy revisions. A summary of the cost-benefit analysis follows.

The final policy revisions encourage the investment of scarce road management funds in a National Forest road system that best provides access for the current and anticipated management objectives and public uses of National Forest System lands. The final policy emphasizes investing in reconstructing and maintaining needed roads while decommissioning unneeded roads. New road construction must be supported by a roads analysis. Although this final policy requires that the agency use a new roads analysis when making decisions about road construction, reconstruction, and decommissioning, the agency currently conducts various types of transportation analyses in the context of NEPA requirements or other forest planning assessments. Thus, the agency does not expect a significant increase of administrative costs due to new administrative requirements under this final policy. The costs and benefits associated with this final rule were described primarily in qualitative terms. Since the rule does not result in any land management decisions, the effect of the rule on the flow of goods and services will be further evaluated in the roads analysis and other planning analyses. Implementation of the final rule is expected to improve water quality, air quality, and wildlife and fish habitat. The spread of noxious weeds and invasive plants should be reduced. Increased emphasis on road decommissioning may reduce recreation access in some situations. However, this reduction in access would likely be offset by increased emphasis on maintaining existing roads and improving access in other areas. Remote recreation settings found in contiguous unroaded areas will be protected during the interim requirement period.

The agency anticipates that the final roadless area conservation rule will supercede the interim requirements of section 7712.16b of this final policy for inventoried roadless areas, except for the Tongass National Forest. Therefore, during the interim requirements period, decisions regarding access that would require roads will be limited to contiguous unroaded areas on all National Forests except for the Tongass National Forest. In contiguous unroaded areas, timber harvest and exploration and development of minerals could be impacted in this interim period. If all planned timber harvest in these contiguous unroaded areas were forgone during the interim period, approximately 65 million board feet of timber per year could be affected. This figure covers all National Forests, because for the Tongass National Forest timber harvest effects occur were found only in the inventoried roadless areas, not in contiguous unroaded areas. Under this scenario, up to 433 direct and 797 total jobs could be affected. These effects would be expected to be of short duration, since the interim requirements period ends once a comprehensive road inventory and forest-scale roads analysis are completed and incorporated as appropriate into the forest plan.

Decisions on whether or not to harvest timber and build roads in contiguous unroaded areas will be made in the interim period on a case-by-case basis. Therefore, it is impossible to reliably predict potential effects, since to do so would be to prejudge the outcome of decisions not yet made. Nevertheless, during the interim requirement period, the worst case potential effects arising from timber harvest forgone in contiguous unroaded areas could be an annual loss of income of up to $32 million. In order for these maximum potential effects to be realized, absolutely no road construction or reconstruction would occur in these areas during the interim requirements period. We know that this is not likely to be the case, as there will likely be road activities that are found to meet the compelling need requirement of FSM 7712.16b and, therefore, may proceed.

The interim requirements of the road management policy will apply to planned timber sales on the Tongass for which no final decision has been made. The planned offer volume that could be affected is 102 million board feet that would be offered over a period of 3 to 5 years. Of that total volume, about 72.5 million board feet would likely be harvested over a period of 3 to 5 years, with a resulting annual impact of 15 to 25 million board feet foregone per year, unless the Regional Forester determines that a compelling need within the meaning of FSM 7712.16b exists for harvesting that volume. The potential annual economic effects associated with that volume would be a maximum of 75-125 direct jobs and 120-200 total jobs, with direct income effects of $8.6 million to $14.4 million direct and total income effects of $13.8 million to $23 million. The combined economic impact of foregoing all harvest in all contiguous unroaded areas of the National Forest System and some harvest from inventoried roadless areas on the Tongass would be up to a maximum of $55 million.

The cost-benefit analysis can be found in: National Forest System Road Management Strategy Environmental Assessment, page 65, Social and Economic Effects, and in Appendix E, Cost/Benefit Analysis. This document may be obtained from the internet at www.fs.fed.us/news/roads for one year following publication of the final policy or by writing to the Director of Ecosystem Management Coordination, P.O. Box 96090, Washington, DC 20090.

In summary, the final policy emphasizes a shift from road development to managing the existing road system within the capability of the land. While the agency could not quantify or establish a monetary value for many of the impacts of this proposed policy, the agency thoroughly considered both the potential quantified and qualitatively-discussed costs and benefits. Pursuant to the requirements of E.O. 12866, the agency carefully assessed alternative regulatory approaches and finalized this rule only after making a reasoned determination that the benefits justify the costs.

The final policy revisions of administrative directives have been considered in light of the Regulatory Flexibility Act (5 U.S.C. 601 et seq.). The final policy provides agency-wide direction to forest and regional personnel about planning and managing the forest transportation system. No direct or indirect financial or access impacts on small businesses have been identified. Therefore, it is hereby certified that this action will not have a significant economic impact on a substantial number of small entities as defined by that Act.

Unfunded Mandates Reform

Pursuant to Title II of the Unfunded Mandates Reform Act of 1995 (2 U.S.C. 1531-1538), the Department has assessed the effects of these administrative policy revisions on State, local, and Tribal governments, and on the private sector. These administrative policy revisions do not compel the expenditure of $100 million or more by any State, local, or Tribal government, or anyone in the private sector. Therefore, a statement under Section 202 of the Act is not required.

Environmental Impact

Section 31.1(b) of Forest Service Handbook 1909.15 (57 FR 43180, September 18, 1992) excludes from documentation in an environmental impact statement “rules, regulations, or policies to establish service-wide administrative procedures, program processes, or instructions.” The Forest Service's assessment is that these administrative policy revisions fall within this category of exclusion. Nevertheless, to further the intent of NEPA, the agency has prepared an environmental assessment. This document may be obtained from the Internet at www.fs.fed.us/news/roads for 1 year following publication of the final policy or by writing to the Director of Ecosystem Management Coordination, P.O. Box 96090, Washington, DC 20090.

No Takings Implication

These administrative policy revisions were reviewed for their impact on private property rights under E.O. 12630. It has been determined that they do not pose a risk of the taking of Constitutionally protected private property because the proposed administrative policy revisions honor access to private property pursuant to statute or to outstanding or reserved rights.

Civil Justice Reform Act

These administrative policy revisions were reviewed under E.O. 12988, Civil Justice Reform. These revisions solely direct the work of Forest Service employees and are not intended to preempt any state and local laws or regulations that might be in conflict or that would impede full implementation of this policy. These revisions would not retroactively affect existing permits, contracts, or other instruments authorizing the occupancy and use of National Forest System lands and would not require the institution of administrative proceedings before parties may file suit in court challenging these provisions.

Controlling Paperwork Burdens on the Public

These administrative policy revisions do not contain any recordkeeping or reporting requirements or other information collection requirements as defined in 5 CFR Part 1320 and, therefore, impose no paperwork burden on the public. Accordingly, the review provisions of the Paperwork Reduction Act of 1995 (44 U.S.C. 3501, et seq.) and implementing regulations at 5 CFR Part 1320 do not apply.

Conclusion

Having considered the comments received, the Forest Service hereby adopts final amendments to its forest planning and transportation directives. In addition to the changes already noted in the responses to comments, the agency reconsidered the organization of proposed changes to Chapter 7710 and concluded that the directive was redundant in places and inconsistent in others. Therefore, the Forest Service has reorganized Chapter 7710. The outline of this chapter as adopted is as follows:

7710.2 Objectives

7710.3 Policy

7710.4 Responsibility

7710.41 Deputy Chief, National Forest System

7710.42 Regional Forester

7710.43 Forest Supervisor

7710.44 District Rangers

7711 Forest Transportation Atlas & Records

7711.01 Authority

7711.03 Policy

7711.1 Forest Road Atlas

7712 Transportation Analysis

7712.02 Objectives

7712.03 Policy

7712.1 Roads Analysis

7712.11 Outcomes

7712.12 Integration with existing Land and Resource Management Plans

7712.12a Roads analysis as part of forest plan revision or amendment

7712.12b Road management project planning

7712.13 Scope and Scale of Roads Analysis

7712.13a Roads analysis for large-scale assessments

7712.13b Roads analysis at the forest or area scale

7712.13c Informing Decisions at the watershed and project scale

7712.13d Special Implementation Considerations

7712.14 Road Inventory

7712.15 Compliance Deadlines for Completing Roads Analyses

7712.16 Interim Requirements for road construction/reconstruction in inventoried roadless and contiguous unroaded areas

7712.16a Areas Subject to Interim Requirements

7712.16b Interim Requirements

7712.16c Duration of the interim requirements

7712.16d Emergency Exemptions from Interim Requirements

7712.3 Network Analysis

7712.4 Economic Analysis [Reserved].

7712.6 Scheduling Projects

This final administrative policy implements the revisions to the National Forest Transportation System planning and management adopted in a final rule elsewhere in this part of today's Federal Register. This action is necessary: (1) To ensure that the National Forest Transportation System meets current and future land and resource management objectives and provides for attendant public uses of National Forest System lands; (2) to provide for safe public access and travel; (3) to allow for economical and efficient management; and (4) to the extent practicable, to minimize and begin to reverse adverse ecological impacts from roads. This revision reflects shifts in public opinion and changes in demand and use of the National Forest System, considers possible economic and social benefits associated with road construction and uses, and utilizes scientific information about the environmental impacts of road construction. Also, all of the action items called for in the report to the President on the wildland fires of 2000 are compatible with the final road management policy. The final road management policy provides local decisionmakers adequate discretion to authorize needed access to meet resource management objectives and is, therefore, consistent with the agency's cohesive fire strategy; “Protecting People and Sustaining Resources in Fire Adapted Ecosystems, a Cohesive Strategy.” This policy is being issued to the Forest Service Manual. Minor, non-substantive, editorial changes have been made to the proposed policy and many sections have been reorganized for efficiency and clarity.

(See Appendix A for a table displaying an Overview of Overall Road Management Policy.)

Dated: January 4, 2001.
Mike Dombeck,
Chief, Forest Service.

National Forest Transportation Forest Service Manual Amendments

Note: The Forest Service organizes its directive system by alphanumeric codes and subject headings. Only those sections of the FSM that are the subject of this notice are set forth here. Those who wish to see the entire document in which the changes are being incorporated may do so at www.fs.fed.us/news/roads. In the directives that follow, Forest Service employees charged with decisionmaking responsibilities concerning the National Forest Transportation System are referred to as Responsible Officials and are the intended audience of these administrative directives.

FSM 1920—Land and Resource Management Planning

Chapter 1920—Land and Resource Management Planning

Note: For ease of issuance, this direction to FSM 1920 will be initially issued as an Interim Directive and later integrated into the Chapter as an Amendment.

1920.5—Definitions [the following terms will be added to this section]

Inventoried roadless areas. Areas identified in a set of inventoried roadless area maps, contained in Forest Service Roadless Area Conservation, Draft Environmental Impact Statement, Volume 2, dated May 2000, which are held at the National headquarters office of the Forest Service, or any update or revision of those maps.

Unroaded areas. Any area without the presence of a classified road, that is of a size and configuration sufficient to protect the inherent characteristics associated with its roadless condition. Unroaded areas are distinct from and do not overlap with inventoried roadless areas.

1922.15—Resource Integration Requirements

Requirements for integrating individual forest resources, including wilderness and other special areas, into the forest planning process are in 36 CFR Part 219. Refer to the Forest Service Handbook 1909.12 for details on how to incorporate resources into the planning process. In addition, the forest planning process must:

* * * * *

20. Identify the specific access requirements and travel management options available to meet the objectives for each management prescription. Describe how access will be provided and how travel will be managed. Include the Forest Service road system, off-road travel, and air and water access. Integrate considerations of biological, physical, social, and economic factors and environmental design criteria. Link access and travel requirements and opportunities to the full spectrum of resource objectives for each management area and alternative.

* * * * *

FSM 7700—Forest Transportation System

Chapter 7700 Zero Code

7701 AUTHORITY

7701.1 Coordination with Forest Planning

7701.2 Revegetation

7701.3 Transportation System Management

7702 OBJECTIVES

7703 POLICY

7703.1 Road Management

7703.2 Management Opportunities

7705 DEFINITIONS

7709 HANDBOOKS

Chapter—Zero Code

This title prescribes the authority, objectives, policy, responsibility, and definitions for planning, construction, reconstruction, operation, and maintenance of forest transportation system facilities.

7701—Authority

7701.1—Coordination With Forest Planning

Title 36, Code of Federal Regulations, Section 219.27 (36 CFR 219.27). Requires transportation access to be addressed in the land and resource management planning process.

7701.2—Revegetation

Forest and Rangeland Renewable Resources Planning Act of 1974 (16 U.S.C. 1601, Pub. L. 93-378) as amended by the National Forest Management Act of 1976 (16 U.S.C. 1608, Pub. L. 94-588). Directs that roads be designed to standards appropriate for intended uses and requires the revegetation of roads within 10 years of the termination of temporary and undeveloped roads created under contract, permit, or lease.

7701.3—Transportation System Management

1. National Forest Roads and Trails Act of October 13, 1964 as amended (16 U.S.C. 532-538, Pub. L. 88-657). Authorizes the road and trail systems for the National Forests. Authorizes the granting of easements across Forest Service administered lands, the construction of maximum economy roads (FSM 7705) and methods for financing them, and the imposing of requirements on road users for maintaining and reconstructing roads, including cooperative deposits for such work.

2. Highway Safety Act of 1966 (23 U.S.C. 402, Pub. L. 89-564). Authorizes State and local governments and participating Federal agencies to identify and survey accident locations; to design, construct, and maintain roads in accordance with safety standards; to apply sound traffic control principles and standards; and to promote pedestrian safety.

3. National Trails System Act of October 2, 1968 (16 U.S.C. 1241-1249, Pub. L. 90-543). Establishes the National Trail System and includes planning, right-of-way acquisition, and construction of trails designated by Congress or the Secretary of Agriculture as part of the system.

4. Title 36, Code of Federal Regulations, Part 212 (36 CFR Part 212). Establishes requirements for the administration of the forest transportation system, including roads, trails, and airfields, and provisions for acquisition of rights-of-way. Describes a minimum road system and requires a science-based roads analysis to plan the road system and to set funding priorities.

5. Title 36, Code of Federal Regulations, Sections 261.12 and 261.54 (36 CFR 261.12 and 261.54). Establishes prohibitions on National Forest System roads that are enforceable by the Forest Service.

* * * * *

7702—Objectives

The results to be achieved by managing the forest transportation system are as follows:

1. To provide sustainable access in a fiscally responsible manner to National Forest System lands for administration, protection, and utilization of these lands and resources consistent with Forest Plan guidance.

2. To manage a forest transportation system within the environmental capabilities of the land.

3. To manage forest transportation system facilities to provide user safety, convenience, and efficiency of operations in an environmentally responsible manner and to achieve road related ecosystem restoration within the limits of current and likely funding levels.

4. To coordinate access to National Forest System lands with national, regional, statewide, local, and Tribal government transportation needs.

7703—Policy

Determine and provide for the minimum forest transportation system that best serves current and anticipated management objectives and public uses of National Forest System (NFS) lands, as identified in the appropriate land and resource management plans (FSM 1920). In managing the forest transportation system for access, Responsible Officials must coordinate with other public and private transportation system agencies to integrate transportation information and to balance transportation facility investments and maintenance costs against the need to maintain land health and water quality.

7703.1—Road Management

In accordance with 36 CFR § 212.5(b)(1), when managing NFS roads, responsible officials are to:

1. Address both the access benefits and ecological costs of road-associated effects.

2. Give priority to reconstructing and maintaining needed roads and decommissioning unneeded roads, or, where appropriate, converting them to less costly and more environmentally beneficial other uses.

3. Use a roads analysis process (FSM 7712.1) to ensure that road management decisions are based on identification and consideration of social and ecological effects. See FSM 7712.13 for guidance on the scope and scale of roads analysis required.

4. Add new roads only where resource management objectives and benefits are clearly demonstrated and where long-term funding obligations have been carefully considered (FSM 7703.2, para. 3).

7703.2—Management Opportunities

Management opportunities for meeting access needs and utilization of forest resources may include roads managed for safe passenger car use, high-clearance vehicle use, or for roads that restrict highway vehicles but are available for other motorized or non-motorized trail uses (such as hiking and administrative access), or trails managed for a variety of uses (such as hiking, horseback riding, and snowmobiling). In addition to the direction in paragraphs 1-3 of this section, Exhibit 01 in section 7712.1 displays the various road management opportunities available to meet access and program needs.

1. Maintaining and reconstructing needed roads. Emphasize maintenance and reconstruction of classified roads to meet road management objectives (FSM 7712.5). Give priority to upgrading the most heavily used roads to provide safe and efficient travel and to reduce adverse environmental impacts. If necessary for environmental protection and due to lack of funding, travel on classified roads may need to be restricted or closed. Such decisions should be undertaken only after careful analysis and consideration. Do not maintain unclassified roads except under emergency resource protection circumstances. Unclassified roads will be closed and made inaccessible where funding permits unless they are made part of the authorized forest road system as provided for in this policy. Temporary roads are maintained as authorized in the contract, permit, lease, or other authorizing document and must be decommissioned at the conclusion of the authorized activity.

2. Decommissioning unneeded roads. Many unplanned, unauthorized, unclassified travelways exist within National Forest System lands and are high priority candidates for decommissioning. Other priorities for decommissioning include temporary roads and roads previously classified as part of the forest transportation system based on anticipated management needs where use and needs have not materialized, or where funding or environmental issues merit consideration of decommissioning or conversion to other uses. Use an open and public roads analysis process (FSM 7712.1) to help identify roads that should be decommissioned, to identify restoration needs, and to establish decommissioning priorities. It may be necessary to regulate use on some unneeded roads until decommissioning or other approved uses, such as conversion to trails, can be achieved.

Once a decision is made and action is taken to decommission a road, re-establish vegetation (FSM 7701.2) and, as necessary, initiate restoration of ecological processes interrupted or adversely impacted by the unneeded roads. Decommissioning includes applying various treatments, which may include one or more of the following:

a. Reestablishing former drainage patterns, stabilizing slopes, and restoring vegetation;

b. Blocking the entrance to a road; installing water bars;

c. Removing culverts, reestablishing drainage-ways, removing unstable fills, pulling back road shoulders, and scattering slash on the roadbed;

d. Completely eliminating the roadbed by restoring natural contours and slopes; or

e. Other methods designed to meet the specific conditions associated with the unneeded roads.

3. Adding new roads. Consistent with FSM 7703.1, para. 4, decisions to add new roads to the transportation system are appropriate only where the resource management objectives, environmental impacts, and benefits have been carefully considered and documented.

Additionally, decisions to add new roads to the forest transportation system must be informed by a roads analysis process (FSM 7712.1) conducted at an appropriate scale. Resource management objectives are established in the relevant land and resource management plans (FSM 1920). Identify and consider values associated with or impacted by new roads which include utilization, protection, and administration of National Forest System lands; public health and safety; or private rights. Consideration must be given to long-term road funding opportunities and obligations. In examining the environmental impacts of potential new roads, consider (1) Maintenance of ecological processes; (2) introduction of exotic species; and (3) effects on threatened and endangered species or areas of high unique biodiversity, cultural uses or historical sites, fish and wildlife habitat, water quality, and visual quality. Adding new roads to the transportation system includes both new road construction and newly acquired roads through land purchases, exchanges, or interchanges.

* * * * *

7705—Definitions

Exhibit FSM 7705-Exhibit 01, Road Terminology Relationships, illustrates the relationships among various road terms.

* * * * *

Forest Roads. As defined in Title 23, Section 101 of the United States Code (23 U.S.C. 101), any road wholly or partly within, or adjacent to, and serving the National Forest System and which is necessary for the protection, administration, and utilization of the National Forest System and the use and development of its resources.

Forest Transportation Facility. A classified road, designated trail, designated airfield, including bridges, culverts, parking lots, log transfer facilities, safety devices and other transportation network appurtenances, under Forest Service jurisdiction that is wholly or partially within or adjacent to National Forest System lands.

Forest Transportation System Management. The planning, inventory, analysis, classification, recordkeeping, scheduling, construction, reconstruction, maintenance, decommissioning, and other operations undertaken to achieve environmentally sound, safe, cost-effective, access for use, protection, administration, and management of National Forest System lands.

* * * * *

National Forest System Road. A classified forest road under the jurisdiction of the Forest Service. The term “National Forest System roads” is synonymous with the term “forest development roads” as used in 23 U.S.C. 205.

New Road Construction. Activity that results in the addition of forest classified or temporary road miles (36 CFR 212.1).

Public Roads. Any road or street under the jurisdiction of and maintained by a public authority and open to public travel (23 U.S.C. 101(a)).

Road. A motor vehicle travelway over 50 inches wide, unless designated and managed as a trail. A road may be classified, unclassified, or temporary (36 CFR 212.1).

a. Classified Roads. Roads wholly or partially within or adjacent to National Forest System lands that are determined to be needed for long-term motor vehicle access, including State roads, county roads, privately owned roads, National Forest System roads, and other roads authorized by the Forest Service (36 CFR 212.1).

b. Temporary Roads. Roads authorized by contract, permit, lease, other written authorization, or emergency operation, not intended to be a part of the forest transportation system and not necessary for long-term resource management (36 CFR 212.1).

c. Unclassified Roads. Roads on National Forest System lands that are not managed as part of the forest transportation system, such as unplanned roads, abandoned travelways, and off-road vehicle tracks that have not been designated and managed as a trail; and those roads that were once under permit or other authorization and were not decommissioned upon the termination of the authorization (36 CFR 212.1).

Road Decommissioning. Activities that result in the stabilization and restoration of unneeded roads to a more natural state (36 CFR 212.1), (FSM 7703).

Road Maintenance. The ongoing upkeep of a road necessary to retain or restore the road to the approved road management objective (FSM 7712.3).

Road Reconstruction. Activity that results in improvement or realignment of an existing classified road as defined below:

a. Road Improvement. Activity that results in an increase of an existing road's traffic service level, expansion of its capacity, or a change in its original design function.

b. Road Realignment. Activity that results in a new location of an existing road or portions of an existing road and treatment of the old roadway (36 CFR 212.1).

Roads Subject to the Highway Safety Act. National Forest System roads that are open to use by the public for standard passenger cars. This includes roads with access restricted on a seasonal basis and roads closed during extreme weather conditions or for emergencies, but which are otherwise open for general public use.

* * * * *

Transportation Facility Jurisdiction. The legal right to control or regulate use of a transportation facility derived from fee title, an easement, an agreement, or other similar method. While jurisdiction requires authority, it does not necessarily reflect ownership.

* * * * *

7709—Handbooks

* * * * *

7709.56—Road Preconstruction Handbook

This handbook establishes procedures and guides for the location, survey, design, and preparation of cost estimates for National Forest System roads.

Chapter 7710—Transportation Atlas, Records, and Analysis

7710.2 Objectives

7710.3 Policy

7710.4 Responsibility

7710.41 Deputy Chief, National Forest System

7710.42 Regional Forester

7710.43 Forest Supervisor

7710.44 District Rangers

7711 FOREST TRANSPORTATION ATLAS & RECORDS

7711.01 Authority

7711.03 Policy

7711.1 Forest Road Atlas

7712 TRANSPORTATION ANALYSIS

7712.02 Objectives

7712.03 Policy

7712.1 Roads Analysis

7712.11 Outcomes

7712.12 Integration with existing Land and Resource Management Plans

7712.12a Roads analysis as part of forest plan revision or amendment

7712.12b Road management project planning

7712.13 Scope and Scale of Roads Analysis

7712.13a Roads analysis for large-scale assessments

7712.13b Roads analysis at the forest or area scale

7712.13c Informing Decisions at the watershed and project scale

7712.13d Special Implementation Considerations

7712.14 Road Inventory

7712.15 Compliance Deadlines for Completing Roads Analyses

7712.16 Interim Requirements for road construction/reconstruction in inventoried roadless and contiguous unroaded areas

7712.16a Areas Subject to Interim Requirements

7712.16b Interim Requirements

7712.16c Duration of the interim requirements

7712.16d Emergency Exemptions from Interim Requirements

7712.3 Network Analysis

7712.4 Economic Analysis [Reserved].

7712.6 Scheduling Projects

7710—Transportation Atlas, Records, and Analysis

This chapter contains objectives, policies, responsibilities, and requirements for analyzing transportation needs and issues and for documenting the transportation system. Direction for forest trails is in FSM 2350 and FSH 2309.18, Trails Management Handbook.

7710.2—Objectives

The objectives of transportation analysis are:

1. To determine, within the context of current and likely funding levels, the minimum transportation facilities needed for public and agency access to achieve forest land and resource management goals and to safeguard ecosystem health within the context of current and likely funding levels.

2. To incorporate transportation system needs into the forest land and resource management planning process.

3. To direct the orderly improvement and management of the transportation system and to ensure the documentation of decisions affecting the system.

4. To interact with and involve the public, State, local, and Tribal governments, and other Federal agencies in transportation analysis.

7710.3—Policy

1. Conduct transportation system planning and analysis using the best available science at the appropriate scale and in conjunction with other analyses to inform transportation management decisions. Specifically, transportation analysis can assist transportation planners in:

a. Determining the need for access to National Forest System lands;

b. Identifying the infrastructure required to provide that access; and

c. Considering and minimizing effects of transportation facility construction, reconstruction, maintenance, and decommissioning on ecological processes and ecosystem health, diversity, and productivity.

2. Involve, interact, and coordinate with adjacent landowners, citizens groups, State, local, and Tribal governments, and other Federal agencies. This collaboration is fundamental to effective transportation analysis and planning.

3. Identify and determine the priority areas where detailed transportation analysis, including roads analysis (FSM 7712.1), is essential for achieving land and resource management direction.

4. Ensure that road construction, reconstruction, and maintenance standards or criteria are guided by roads analysis (FSM 7712.1) and documented through the use of road management objectives (FSM 7712.5).

7710.4—Responsibility

7710.41—Deputy Chief, National Forest System

The Deputy Chief, National Forest System, has the authority to approve or rescind roads analysis processes for field use.

7710.42—Regional Forester

It is the responsibility of the Regional Forester to:

1. Ensure that roads analysis is a component of sub-basin, multi-Forest, and sub-regional scale assessments.

2. Develop multi-year regional schedules of proposed transportation facility projects (FSM 1920)

3. Serve as the Responsible Official on any environmental impact statement on road construction or reconstruction in inventoried roadless and certain unroaded areas as identified in FSM 7712.16.

7710.43—Forest Supervisor

The Forest Supervisor is delegated the authority and assigned the responsibility to:

1. Consult and involve Federal, State, local, and Tribal transportation agencies in land and resource management planning to ensure coordination of the overall transportation system.

2. Develop and maintain a forest transportation atlas in compliance with FSM 7711 and 36 CFR Part 212.

3. Complete and maintain an inventory of classified and unclassified roads.

4. Assign transportation analysis to personnel with skills in engineering, hydrology, biology, and other related knowledge and skills.

5. Accomplish roads analysis at the appropriate scale and as directed in FSM 7712.1 and FSM 7712.15, and document the results.

6. Develop and recommend to the Regional Forester annual and multi-year schedules of proposed road construction, reconstruction, and decommissioning projects.

7710.44—District Rangers

Unless reserved by the Forest Supervisor, the District Ranger has authority to approve road management objectives (FSM 7712.5).

7711—Forest Transportation Atlas & Records

7711.01—Authority

The regulations at Part 212 of Title 36 of the Code of Federal Regulations (36 CFR, Part 212) address how the Forest Service is to administer the Forest Transportation System. Section 212.2 requires an atlas as a component of the forest transportation program, as follows:

Section 212.2—Forest Transportation System

(a) For each national forest, national grassland, experimental forest, and any other unit of the National Forest System as defined in § 212.1 and listed in 36 CFR Part 200, Subpart A, the Forest Supervisor or other responsible official must develop and maintain a forest transportation atlas which is to be available to the public at administrative headquarters units. The purpose of the atlas is to display the system of roads, trails, and airfields of the unit. The atlas consists of the geo-spatial, tabular, and other data to support analysis needs and resource management objectives identified in land management plans. The atlas is a dynamic document that changes in response to new information on the existence and condition of roads, trails, and airfields of the unit. The atlas does not contain inventories of temporary roads, which are tracked by the project or activity authorizing the temporary road. The content and maintenance requirements for the atlas are identified in the Forest Service directive system (36 CFR 200).

7711.03—Policy

The transportation atlas is the official repository of transportation facility decisions for each National Forest and National Grassland.

1. Building the Forest Transportation Atlas. The initial transportation atlas for each national forest and grassland consists of those maps, inventories, plans, and associated information available as of [January 12, 2001]. Units are to add to this initial information in accordance with direction in this chapter and other chapters of Title 7700.

2. Maintaining the Transportation Atlas. Maintain a current record of forest transportation facilities in the atlas. Use the ongoing real property and condition survey updates (FSM 6446) as appropriate. Use the Forest Service Infrastructure database (INFRA) for the storage and analysis of information in the transportation atlas.

7711.1—Forest Road Atlas

1. The forest road atlas is a key component of the forest transportation atlas and, consistent with the road inventory, includes all classified and unclassified roads on National Forest System lands.

2. The road atlas includes, at a minimum, the location, jurisdiction, and road management objectives for classified roads and bridges and the location of unclassified roads and any management actions taken to change the status of unclassified roads.

3. Data and other information contained in the road atlas should be used to support roads analysis.

4. Unit transportation managers shall document changes in road management status, including changes such as accomplishment of decommissioning objectives or the addition of an unclassified road to the forest road system.

5. Temporary roads are not intended to be included as part of the forest road atlas, as they are managed by the projects or activities under which they are authorized and decommissioned at the conclusion of the authorized activity.

7712—Transportation Analysis

Conduct transportation analysis at appropriate scales using the best available science that considers access needs and concerns. Coordinate the analysis with other ecosystem assessments and analyses.

7712.01—Authority

The regulations at Title 36 of the Code of Federal regulations § 212.5 establish the minimum requirements for the road system, using a science-based roads analysis, and identifying unneeded roads as follows:

(b) Road System—(1) Identification of road system. For each national forest, national grassland, experimental forest, and any other units of the National Forest System (§ 212.1), the responsible official must identify the minimum road system needed for safe and efficient travel and for administration, utilization, and protection of National Forest System lands. In determining the minimum road system, the responsible official must incorporate a science-based roads analysis at the appropriate scale and, to the degree practicable, involve a broad spectrum of interested and affected citizens, other state and federal agencies, and tribal governments. The minimum system is the road system determined to be needed to meet resource and other management objectives adopted in the relevant land and resource management plan (36 CFR 219), to meet applicable statutory and regulatory requirements, to reflect long-term funding expectations, to ensure that the identified system minimizes adverse environmental impacts associated with road construction, reconstruction, decommissioning, and maintenance.

(2) Identification of unneeded roads. Responsible officials must review the road system on each National Forest and Grassland and identify the roads on lands under Forest Service jurisdiction that are no longer needed to meet forest resource management objectives and that, therefore, should be decommissioned or considered for other uses, such as for trails. Decommissioning roads involves restoring roads to a more natural state. Activities used to decommission a road include, but are not limited to, the following: reestablishing former drainage patterns, stabilizing slopes, restoring vegetation, blocking the entrance to the road, installing water bars, removing culverts, reestablishing drainage-ways, removing unstable fills, pulling back road shoulders, scattering slash on the roadbed, completely eliminating the roadbed by restoring natural contours and slopes, or other methods designed to meet the specific conditions associated with the unneeded road. Forest officials should give priority to decommissioning those unneeded roads that pose the greatest risk to public safety or to environmental degradation.

7712.02—Objectives

The objectives of transportation analysis are as follows:

1. To identify transportation management opportunities and priorities.

2. To assess transportation management needs, long-term funding, and expected ecosystem, social, and economic effects, including effects on the values of roadless and unroaded areas.

3. To establish transportation management objectives and priorities.

7712.03—Policy

Forest Service regulations implementing the Forest and Rangeland Renewable Resources Planning Act, as amended by the National Forest Management Act, require integration of transportation planning into an interdisciplinary effort that produces Regional, forest, and site-specific project plans. In planning for and analyzing the transportation system, perform the following:

1. Assess economic costs and benefits along with social, physical, and biological factors when identifying transportation facility options.

2. Assess effects of transportation facility options on ecological processes and ecosystem health, diversity, and productivity.

3. Consider the needs of all parties when developing transportation system opportunities in areas of intermingled ownership.

4. Consider long-and short-term uses, including possible mechanized, non-mechanized, and off-highway vehicle uses, when analyzing transportation facilities.

5. Actively engage the public in transportation analysis.

6. Use the forest transportation atlas as a record of transportation facility decisions, including:

a. Documenting road management objectives

b. Identifying all classified and unclassifed roads,

c. Documenting the results of transportation analysis, and

d. Documenting road management project priorities.

7712.1—Roads Analysis

The Responsible Official shall incorporate an interdisciplinary science-based roads analysis into multi-forest, forest-scale, and watershed or area-scale analyses and assessments to inform planners and decisionmakers of road system opportunities, needs, and priorities that support land and resource management objectives. Conducted by an interdisciplinary team, the science-based roads analysis process provides Responsible Officials with critical information needed to identify and manage a minimum road system that is safe and responsive to public needs and desires, is affordable and efficient, has minimal adverse effects on ecological processes and ecosystem health, diversity, and productivity of the land, and is in balance with available funding for needed management actions.

Units are to use an authorized science-based roads analysis process, such as that described in the report Roads Analysis: Informing Decisions About Managing the National Forest Transportation System (USDA Forest Service, 1999, Misc. Report FS-643). Pursuant to FSM 7710.41, the Deputy Chief, National Forest Systems, may approve other science-based analysis methods for field use through amendments to this chapter. Although concluding an initial roads analysis is important, conduct additional iterations of analysis as needed to address changes in conditions, such as available funding, inventory and monitoring results, severe disturbance events, or new regulatory requirements.

7712.11—Outcomes

The roads analysis results in a report and accompanying maps that document the information and analysis methods used to identify social and environmental opportunities, problems, risks, and priorities for future road management. The report documents the key findings of the analysis and contains graphical, tabular, and geo-spatial displays of the transportation system options, including a minimum road system. It is important that the roads analysis identify access needs and opportunities that are based on current budget levels and realistic projections of future funding. Analysts should locate, interpret, and use relevant scientific literature in the analysis and disclose assumptions on which the analysis is based. See section 7712.12 for detailed guidance on the various scales of analyses and their findings.

While the report contains factual information concerning the transportation system, road management decisions are not a product of roads analysis. Rather, road management decisions must be informed by roads analysis and disclosed in an appropriate NEPA document (FSM 1950 and FSH 1909.15). FSM 7712.1 “ Exhibit 01 illustrates road management options. Update the transportation atlas (FSM 7711.03), as appropriate, based upon decisions reached after the environmental analysis process (NEPA). Also, update the atlas if a decision changes road management objectives (FSM 7712.5).

7712.12—Integration With Land and Resource Management Plans

The roads analysis evaluates road system opportunities and needs within the context of land and resource management direction. Roads analysis includes opportunities for public participation and emphasizes interdisciplinary team identification and evaluation of road issues and opportunities.

7712.12a—Roads Analysis as Part of Forest Plan Revision or Amendment

The Responsible Official must use the results and findings of the roads analysis process with other ecological assessments when addressing issues raised in forest planning. Conducting a forest-scale analysis does not compel a forest plan amendment or revision.

7712.12b—Road Management Project Planning

1. New Road Construction. Consistent with the direction in FSM 7703.1, ensure that the addition of new roads serves a documented need and that the decision is informed by a roads analysis (FSM 7712.1).

2. Maintenance, Reconstruction, and Decommissioning. Use roads analysis (FSM 7712.1) to evaluate opportunities and priorities for reconstruction and decommissioning of roads and to provide the context at a scale and intensity commensurate with the scope of the road management issue or concern. Implementation of road maintenance activities does not require a roads analysis before proceeding; however, roads analysis is a useful management tool to help set maintenance priorities.

7712.13—Scope and Scale of Roads Analysis

When proposed road management activities would result in changes in access, such as changes in current use, traffic patterns, and road standards, or where there may be adverse effects on soil and water resources, ecological processes, or biological communities (road construction, reconstruction, and decommissioning), those decisions must be informed by roads analysis (FSM 7712.1) except as provided in section 7712.13c. Generally, road management decisions should be informed by roads analysis at a broad scale. Responsible Officials must choose the appropriate scale for such an analysis and the degree of detail that is appropriate and practical. Site-specific projects may be informed by a watershed roads analysis, if the Responsible Official determines the scope and scale of issues under consideration warrant its use. FSM 7712.13—Exhibit 01 provides a snapshot of the scope and scale of roads analysis and its integration into planning and decisionmaking.

7712.13a—Roads Analysis for Large-Scale Assessments

1. Roads analysis is an integral part of multi-forest or eco-region assessments. At this scale, consider the following:

a. Broad scale issues, such as habitat connectivity, strongholds for aquatic and terrestrial species, sources of clean water, cumulative effects, and other ecosystem values.

b. Integration of other Federal agency, State, county, local, and Tribal transportation systems, and their multi-year transportation plans with the forest transportation system.

c. Potential program opportunities for new or revised forest highways, public lands highways, and public Forest Service roads.

d. Current and likely funding levels available to support road construction, reconstruction, maintenance, and decommissioning.

7712.13b—Roads Analysis at the Forest or Area Scale

Roads analysis at the forest scale is critically important, as it provides a context for road management in the broader framework of managing all forest resources. Close coordination with broader scale ecosystem assessments and analyses is essential. Area-scale assessments may be appropriate on forests with assessment areas composed of islands or groups of islands, on forests with widely separated units, or in areas where watershed boundaries do not make logical or effective assessment boundaries. Examples include forests with large physically or ecologically discrete subdivisions such as the large islands in southeast Alaska, or widely separated units of National Forests such as: National Forests in Texas, Mississippi, Florida, Missouri, and Louisiana, or on forests where watershed boundaries do not make logical or effective assessment boundaries, such as the coastal plains of the eastern United States.

1. Consider the following at this scale:

a. Environmental issues potentially affected by road management proposals, such as soil and water resources, ecological processes, invasive species spread, and biological communities.

b. Social issues potentially affected by road management proposals such as socio-economic impacts, public access, and accessibility for handicapped persons.

c. An evaluation of the transportation rights-of-way acquisition needs.

d. The interrelationship of State, county, Tribal, and other Federal agency transportation facility effects on land and resource management plans and resource management programs.

e. Transportation investments necessary for meeting resource management plans and programs.

f. Current and likely funding levels available to support road construction, reconstruction, maintenance, and decommissioning.

2. Prepare a report with accompanying map(s) that documents the information and analysis methods used to identify access and environmental priorities, issues, and guidelines for future road management and the key findings. At a minimum, the report will:

a. Inventory and map all classified roads, and display how these roads are intended to be managed.

b. Provide guidelines for addressing road management issues and priorities related to construction, reconstruction, maintenance, and decommissioning.

c. Identify significant social and environmental issues, concerns, and opportunities to be addressed in project level decisions.

d. Document coordination efforts with other government agencies and jurisdictions.

7712.13c—Informing Decisions at the Watershed and Project Scale

Roads analysis at the forest scale will generally provide the context for informing road management decisions and activities at the watershed, area, and project level. Where a forest-scale roads analysis has been conducted, the Responsible Official must consider the decision(s) to be made and determine how to apply the results of the forest-scale roads analysis to best inform management decisions. However, it is generally expected that road inventories and road condition assessments as identified in FSM 7712.14 would be completed at the watershed or project scale.

When higher scale analyses are not available to inform a project decision, the Responsible Official must consider the decisions to be made (FSM 7712.13) and the potential environmental and access effects and determine whether or not additional analysis is needed at the watershed or project scale. Roads analysis below the forest scale is not automatically required, but may be undertaken at the discretion of the Responsible Official. When the Responsible Official determines that additional analysis is not needed for a project, the Responsible Official must document the basis for that conclusion.

When needed, the outcomes of roads analysis at the watershed and area-scale would result, at a minimum in the following:

1. Identification of needed and unneeded roads.

2. Identification of road associated environmental and public safety risks.

3. Identification of site-specific priorities and opportunities for road improvements and decommissioning.

4. Identification of areas of special sensitivity, unique resource values, or both.

5. Any other specific information that may be needed to support project-level decisions.

7712.13d—Special Implementation Considerations

Ongoing, large-scale ecosystem planning efforts of the Columbia River Basin and the Sierra Nevada Framework assessment are exempt from the requirements of FSM 7712.1 to conduct a roads analysis.

7712.14—Road Inventory

Road inventories support roads analysis and road decisions at various scales and consist of geo-spatial data (maps, aerial photos, etc), physical attribute data, and an assessment of road condition to determine if a road is meeting resource management objectives and access needs. The inventory information to be gathered varies by the scale of assessment.

1. Inventories at Multi-forest and Forest Scale. Inventories at these scales provide information needed to conduct broader assessments of road management needs and, therefore, require less site-specific information.

a. Classified Road Inventory. Geo-spatial and physical attribute information is needed for all classified roads, whereas the assessment of individual road condition would be most important for the major transportation routes (arterials and collectors) or those determined to be of key importance by the forest.

b. Unclassified Road Inventory. Information needed for unclassified roads is usually that obtained from existing data and other readily available sources of information, such as aerial photographs.

2. Inventories at Watershed and Area Scale. At these scales a comprehensive and complete inventory of all classified, unclassified, and temporary roads is required in order to conduct analyses that inform site-specific decisions, to set priorities for road management actions, and to identify special situations.

Use the INFRA database to store the physical attributes on all classified and unclassified roads. FSM 7712.14 Exhibit-01, entitled Road Inventory Necessary at Various Scales of Road Analysis and located in Appendix B of this document, illustrates the roads analysis objectives and the inventory data to be collected at various scales.

7712.15—Deadlines for Completing Roads Analyses

(Note: The dates in this section will be calculated by the Forest Service Directive Manager when this amendment is issued to field employees.)

1. Analysis Needed to inform Road Management Decisions. Section 7712.13 identifies proposed road management decisions other than forest plan revisions or amendments that require roads analysis and provides guidance on the scope and scale of various levels of analysis that might inform those decisions. The following deadlines govern the application of roads analysis to the proposed road management decisions identified in section 7712.13:

a. Decisions made before July 12, 2001 do not require a roads analysis.

b. Decisions made after July 12, 2001 must be informed by a roads analysis.

2. Forest-Scale Road Analyses. Every National Forest System administrative unit must have a forest-scale roads analysis completed by January 13, 2003 except as follows:

a. Those units that will complete a forest plan revision or amendment by July 12, 2001 do not need to complete a forest-scale roads analysis (sec. 7712.1) prior to adopting the plan revision or amendment. However, these units are still required to complete a forest-scale roads analysis by January 13, 2003. Those units that have begun revision or amendment of their forest plans but will not adopt a final revision or final amendment by July 12, 2001 must complete a roads analysis prior to adoption of the final plan revision or amendment.

b. In specific cases where forests are undergoing forest plan revision or amendment, and circumstances are such that additional time for completion of forest-scale roads analysis would be desirable for integration into the forest plan revision or amendment, the Regional Forester may request approval from the Chief for an extension.

7712.16—Interim Requirements for Road Construction/Reconstruction in Inventoried Roadless and Contiguous Unroaded areas

The requirements of section 7712.16a—7712.16d do not revoke, suspend, or modify any project or activity decision, or permit, contract or other legal instrument authorizing occupancy and use of National Forest System land issued prior to January 12, 2001.

7712.16a—Areas Subject to Interim Requirements

Until a comprehensive road inventory and forest-scale roads analysis have been completed and incorporated into the applicable forest plan, the direction in FSM 7712.16a through 7712.16c applies to the following areas:

1. Inventoried roadless areas, as defined in FSM 7705, are identified in a set of inventoried roadless area maps, contained in Forest Service Roadless Area Conservation, Draft Environmental Impact Statement, Volume 2, dated May 2000, which are held at the National headquarters office of the Forest Service, or any update or revision of those maps.

2. Contiguous unroaded areas of more than 1,000 acres that are contiguous to RARE II inventoried roadless areas or contiguous to areas inventoried in land and resource management plans, contiguous to Congressionally designated wilderness areas or Federally administered components of National Wild and Scenic River Systems classified as Wild, or contiguous to unroaded areas of 5,000 acres or more on other Federal lands. These areas of 1,000 acres or more must have a common boundary of considerable length, be at least one-quarter mile in width, and provide important corridors for wildlife movement or extend a unique ecological value of the established inventoried area.

7712.16b—Interim Requirements

1. Except as provided for in FSM 7712.16c, road construction or reconstruction in inventoried roadless and contiguous unroaded areas (FSM 7716) may be authorized only if:

a. The Regional Forester determines, for the purposes of this section, a compelling need for a road;

b. A science-based roads analysis is conducted pursuant to FSM 7712.1; and

c. An environmental impact statement for the proposed action is prepared and approved by the Regional Forester. Road construction and reconstruction in inventoried roadless and contiguous unroaded areas constitute a significant environmental effect, as defined in the Council on Environmental Quality regulations (40 CFR Part 1508) and the Forest Service Environmental Procedures Handbook (FSH1909.15, Section 05) and, therefore, requires the preparation of an environmental impact statement (FSH1909.15, Section 20.6). The environmental impact analysis provides the basis for the Regional Forester decision on whether to construct or reconstruct a road in inventoried roadless or contiguous unroaded areas.

2. Examples of compelling need, for the purposes of this section, may include, but are not limited to:

a. Roads needed for critical resource restoration and protection.

b. Road realignment needed to prevent resource damage by an existing road that is deemed essential for public or private access, management, or public health or safety, and where such damage cannot be corrected by maintenance.

c. Road access is needed pursuant to reserved or outstanding rights or as provided by statute or treaty.

d. Roads needed to restore wildlife habitat.

To the extent consistent with the Tongass National Forest Land and Resource Management Plan and all applicable laws, the Regional Forester for Region 10, for the purposes of this section, has specific authority to determine that a compelling need exists to provide for the multiple-use and sustained-yield of all renewable resources of the Tongass National Forest, including seeking to meet market demand for timber.

3. Environmental mitigation and environmental restoration of unclassified roads are appropriate in inventoried roadless and contiguous unroaded areas and must follow NEPA-based decisionmaking processes. However, reconstruction or maintenance of unclassified roads in inventoried roadless and contiguous unroaded areas is inappropriate, other than to prevent or correct resource damage, as such activity would lead to de facto road development.

7712.16c—Duration of the Interim Requirements

The interim requirements set forth in FSM 7712.16 through 7712.16b remain in effect until the forest-scale roads analysis has been completed, and either (1) the forest plan has been amended or revised or (2) the Forest Supervisor makes a written determination that the forest plan does not require amendment or revision to reflect the findings of the roads analysis.

While the intent of the forest-scale roads analysis is to ensure an integrated consideration of access needs and opportunities as well as the effects of transportation management on the resources of the forest, there may be situations where an intensive area-scale roads analysis is appropriate (FSM 7712.13b). These specific areas may be relieved from the interim requirements upon completion of an intensive area-scale roads analysis and amendment or revision of the forest plan, or once the Forest Supervisor makes a written determination that the forest plan does not require amendment or revision as a result of the area-scale analysis.

7712.16d—Exemptions From Interim Requirements

The procedures established in sections 7712.16a and 7712.16b apply to a proposal to construct or reconstruct a road in an inventoried roadless or in contiguous unroaded areas unless the Responsible Official determines that one of the following circumstances exists:

1. A road is needed to protect public health and safety in cases of an imminent threat of flood, fire, or other catastrophic event that, without intervention, would cause the loss of life or property.

2. A road is needed to conduct a response action under the Comprehensive Environmental Response, Compensation, and Liability Act (CERCLA) or to conduct a natural resource restoration action under CERCLA, section 311 of the Clean Water Act, or Oil Pollution Act.

3. Road construction is needed in conjunction with the continuation extension, or renewal of a mineral lease on lands that are under lease by the Secretary of the Interior as of the January 12, 2001 or for a new lease issued immediately upon expiration of an existing lease.

7712.3—Network Analysis

Network analysis may be conducted as part of roads analysis to identify access alternatives. The network analysis shall establish four important types of transportation cost data:

1. Environmental effects and possible ecosystem restoration opportunities.

2. Construction, reconstruction, decommissioning, and maintenance costs of a road system to a specific area.

3. Variable user- and travel-related costs over a road system for a resource activity on a unit or output basis.

4. Life-cycle costs of operating and maintaining the road network.

Reanalyze networks and cost estimates when management practices or management area direction change.

7712.4—Economic Analysis [Reserved]

7712.5—Road Management Objectives

Validate, revise, or establish road management objectives for all classified National Forest System roads to be consistent with land management plan direction, project decisions, and the results and findings of roads analysis. Road management objectives establish the design criteria (FSM 7720) and operation and maintenance criteria (FSM 7730.3) for each road. The road management objectives require approval by the Responsible Official (usually the District Ranger) and are included in the forest road atlas (FSM 7710.44).

7712.6—Scheduling Projects

Integrate the scheduling of decommissioning, reconstruction, and construction project activities with other resource activities in a timely manner (FSM 1920).

BILLING CODE 3410-11-U

[FR Doc. 01-553 Filed 1-5-01; 4:30 pm]

BILLING CODE 3410-11-C